POSTAL SERVICE

39 CFR Part 111

Ballot Mail Ancillary Service Endorsements

AGENCY: Postal Service™.

ACTION: Proposed rule.

SUMMARY: The Postal Service is proposing to amend Mailing Standards of the United States Postal Service, Domestic Mail Manual (DMM®) to remove Change Service Requested, Option 1, as an ancillary service endorsement option for Ballot Mail.

DATES: Submit comments on or before October 30, 2023.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Ballot Mail Service Endorsements”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Emily Matyas (202) 826-7157 or Garry Rodriguez at (202) 268-7281.

SUPPLEMENTARY INFORMATION: Ancillary service endorsements provide an option for mailers to instruct the Postal Service on how to treat their mail if it is determined to be undeliverable-as-addressed and to request address correction services.

The Postal Service is proposing to revise subsections 507.1.5.1 and 507.1.5.3 to remove the “Change Service Requested”, Option1, ancillary service endorsement as an option for Ballot Mail items. Change Service Requested, Option 1 permits all mailpieces that are undeliverable as addressed to be disposed of and an address correction notice with reason for non-delivery is provided to the mailer. The Election and Government Mail Services group made the policy decision to never allow any identifiable Ballot Mail piece that is undeliverable as addressed to be disposed of by the Postal Service. Instead, Ballot Mail that is undeliverable as addressed must be forwarded to the voter if a Change of Address notice is on file or returned to the election office that sent the Ballot Mail.

The Postal Service is proposing to implement this change effective January 21, 2024.

We believe this proposed revision will provide customers with a more efficient mailing experience.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

507 Mailer Services

1.0 Treatment of Mail

* * * * *

1.5 Treatment for Ancillary Services by Class of Mail

1.5.1 First-Class Mail, USPS Ground Advantage—Retail, USPS Ground Advantage—Commercial, and Priority Mail

Undeliverable-as-addressed First-Class Mail (including postcards), USPS Ground Advantage—Retail, USPS Ground Advantage—Commercial, and Priority Mail pieces are treated under Exhibit 1.5.1, with these additional conditions:

* * * * *

e. “Change Service Requested” is not permitted for the following:

[Revise item e by adding a new item e4 to read as follows:

* * * * *

4. “Change Service Requested”, Option 1, is not valid for Ballot Mail.

* * * * *

Exhibit 1.5.1 Treatment of Undeliverable First-Class Mail, USPS Ground Advantage—Retail, USPS Ground Advantage—Commercial and Priority Mail

Mailer endorsement | USPS treatment of UAA pieces
* * * * *
Change Service Requested
* * * * *
* * * * *
Restrictions (for Options 1 and 2) | The following restrictions apply:

[Revise the “Change Service Requested” “Restrictions” section by adding a new number 3 to read as follows:]

3. “Change Service Requested”, Option 1, is not valid for Ballot Mail.

* * * * *

1.5.3 USPS Marketing Mail and Parcel Select Lightweight

Undeliverable-as-addressed (UAA) USPS Marketing Mail and Parcel Select Lightweight pieces are treated as described in Exhibit 1.5.3, with these additional conditions:

* * * * *

[Revise the text of item c to read as follows:]

c. The endorsement “Change Service Requested” is not permitted for the following:

1. USPS Marketing Mail or Parcel Select Lightweight pieces containing hazardous materials under 601.8.0. USPS Marketing Mail or Parcel Select Lightweight pieces containing hazardous materials must bear the endorsement “Address Service Requested,” “Forwarding Service Requested,” or “Return Service Requested.”

2. “Change Service Requested”, Option 1, is not valid for Ballot Mail.

* * * * *

Exhibit 1.5.3 Treatment of Undeliverable USPS Marketing Mail and Parcel Select Lightweight

Mailer endorsement | USPS treatment of UAA pieces
* * * * *
“Change Service Requested” ¹ ⁴
Option 1
* * * * *
Restrictions:
The following restrictions apply:
* * * * *

[Revise the “Change Service Requested” Option 1 “Restrictions” section by adding a new number 3 to read as follows:]

3. “Change Service Requested”, Option 1, is not valid for Ballot Mail.

* * * * *

Colleen Hibbert-Kapler,
Attorney, Ethics & Legal Compliance.

[FR Doc. 2023-21318 Filed 9-28-23; 8:45 am]

BILLING CODE P